DEPARTMENT OF LABOR

Employment and Training Administration

[TA-W-63,079; TA-W-63,079A]

Redman Homes, Inc., Division of Champion Homes, Silverton, Oregon, Including Employees of Redman Homes, Inc., Division of Champion Homes, Silverton, Oregon Operating at Various Locations in the State of Washington; Amended Certification Regarding Eligibility To Apply for Worker Adjustment Assistance and Alternative Trade Adjustment Assistance

In accordance with Section 223 of the Trade Act of 1974 (19 U.S.C. 2273) the Department of Labor issued a Certification of Eligibility To Apply for Worker Adjustment Assistance and Alternative Trade Adjustment Assistance on April 29, 2008, applicable to workers of Redman Homes, Inc., division of Champion Homes, Silverton, Oregon. The notice was published in the Federal Register on May 15, 2008 (73 FR 28167).

At the request of the State agency, the Department reviewed the certification for workers of the subject firm. The workers produced modular homes.

New information shows that worker separations have occurred involving employees of the Silverton, Oregon location of the subject firm operating at various locations in the state of Washington. These employees were engaged in the building of modular homes.

Based on these findings, the Department is amending this certification to include employees of the Silverton, Oregon location of Redman Homes, Inc., division of Champion Homes operating at various locations in the state of Washington.

The intent of the Department's certification is to include all workers of Redman Homes, Inc., division of Champion Homes who were adversely affected by a shift in production to Canada.

The amended notice applicable to TA-W-63,079 is hereby issued as follows:

“All workers of Redman Homes, Inc., division of Champion Homes, Silverton, Oregon (TA-W-63,079), including employees of Redman Homes, Inc., division of Champion Homes, Silverton, Oregon, including workers operating at various locations in the state of Washington (TA-W-63,079A), who became totally or partially separated from employment on or after March 26, 2007, through April 29, 2010, are eligible to apply for adjustment assistance under Section 223 of the Trade Act of 1974, and are also eligible to apply for alternative trade adjustment assistance under Section 246 of the Trade Act of 1974.”

Signed at Washington, DC, this 22nd day of May 2008.
Richard Church,
Certifying Officer, Division of Trade Adjustment Assistance.

[FR Doc. E8-12330 Filed 6-2-08; 8:45 am]

BILLING CODE 4510-FN-P